DEPARTMENT OF COMMERCE

National Oceanic and Atmospheric Administration

RIN 0648-XA874

Marine Mammals; File No. 15240

AGENCY: National Marine Fisheries Service (NMFS), National Oceanic and Atmospheric Administration (NOAA), Commerce.

ACTION: Notice; issuance of permit.

SUMMARY: Notice is hereby given that a permit has been issued to NMFS Pacific Islands Fisheries Science Center (PIFSC), 2570 Dole Street, Honolulu, Hawaii 96822 (Responsible Party: Frank A. Parrish, Ph.D.) to conduct research on cetaceans.

ADDRESSES: The permit and related documents are available for review upon written request or by appointment in the following offices:

Permits and Conservation Division, Office of Protected Resources, NMFS, 1315 East-West Highway, Room 13705, Silver Spring, MD 20910; phone (301)427-8401; fax (301)713-0376; and

Pacific Islands Region, NMFS, 1601 Kapiolani Blvd., Rm 1110, Honolulu, HI 96814-4700; phone (808)944-2200; fax (808)973-2941.

FOR FURTHER INFORMATION CONTACT: Carrie Hubard or Laura Morse, (301)427-8401.

SUPPLEMENTARY INFORMATION: On December 20, 2011, notice was published in the Federal Register (76 FR 78890) that a request for a permit to conduct cetacean research had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

Permit No. 15240 authorizes the PIFSC to take 20 cetacean species, including six species listed as endangered [blue (Balaenoptera musculus), fin (B. physalus), sei (B. borealis), humpback (Megaptera novaeangliae), sperm (Physeter macrocephalus), and North Pacific right (Eubalaena japonica) whales] and one stock proposed to be listed as endangered, Hawaiian insular false killer whales (Pseudorca crassidens). Endangered Hawaiian monk seals [Monachus schauinslandi] may be harassed incidental to the cetacean research. The purpose of the research is to determine the abundance, distribution, stock structure, movement patterns, and ecological relationships of cetaceans occurring in U.S. and international waters of the Pacific Islands Region. The action area includes Hawaii, Palmyra, American Samoa, Guam, the Commonwealth of the Northern Mariana Islands, Johnston Atoll, Kingman Reef, Howland Island, Baker Island, Jarvis Island, and Wake Island. Research methodologies include aerial and vessel surveys, behavioral observations, photo-identification, acoustic recordings, biopsy collection, and dart and suction cup tagging. Salvage and import/export of cetacean parts, specimens, and biological samples may also occur. The permit is valid through May 31, 2017.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on May 15, 2012.

As required by the ESA, issuance of this permit was based on a finding that such permit: (1) Was applied for in good faith; (2) will not operate to the disadvantage of such endangered species; and (3) is consistent with the purposes and policies set forth in section 2 of the ESA.

Dated: May 23, 2012.
Tammy C. Adams,
Acting Chief, Permits and Conservation Division, Office of Protected Resources, National Marine Fisheries Service.

[FR Doc. 2012-13112 Filed 5-29-12; 8:45 am]

BILLING CODE 3510-22-P